DEPARTMENT OF COMMERCE

National Oceanic and Atmospheric Administration

RIN 0648-XH86

Pacific Fishery Management Council; Public Meetings

AGENCY: National Marine Fisheries Service (NMFS), National Oceanic and Atmospheric Administration (NOAA), Commerce.

ACTION: Notice of public meetings.

SUMMARY: The Pacific Fishery Management Council's (Council) Highly Migratory Species Management Team (HMSMT) and Highly Migratory Species Advisory Subpanel (HMSAS) will hold work sessions, which are open to the public.

DATES: The HMSMT work session will begin at 8:30 a.m. on Tuesday, June 3, 2008; the HMSMT and HMSAS will begin meeting jointly at 1:30 p.m. on the same day and continue until 5:30 p.m. The joint meeting of the HMSMT and HMSAS will resume on Wednesday, June 4, 2008, at 8:30 a.m. and continue until the two committees finish their joint discussions. The committees will then meet separately until business is completed.

ADDRESSES: The work sessions will be held at the U.S. Fish and Wildlife Offices, Conference Rooms 1 & 2, 6010 Hidden Valley Rd., Carlsbad, CA 92011; telephone: (760) 431-9440.

Council address: Pacific Fishery Management Council, 7700 NE Ambassador Place, Suite 101, Portland, OR 97220-1384.

FOR FURTHER INFORMATION CONTACT: Dr. Kit Dahl, Pacific Fishery Management Council; telephone: (503) 820-2280.

SUPPLEMENTARY INFORMATION: The HMSMT/HMSAS work sessions will discuss preparation of the HMS stock assessment and fishery evaluation (SAFE) report, 2009-10 HMS biennial harvest specifications, Magnuson-Stevens Act re-authorization implementation, international fisheries issues, management concepts for the high seas shallow-set longline fishery, and research and data related issues.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Ms. Carolyn Porter at (503) 820-2280 at least 5 days prior to the meeting date.

Authority: 16 U.S.C. 1801 et seq.

Dated: May 9, 2008.
Tracey L. Thompson,
Acting Director, Office of Sustainable Fisheries, National Marine Fisheries Service.

[FR Doc. E8-10716 Filed 5-13-08; 8:45 am]

BILLING CODE 3510-22-S